DEPARTMENT OF ENERGY

10 CFR Part 431

[EERE-2022-BT-TP-0003]

Energy Conservation Program: Test Procedure for Dedicated-Purpose Pool Pumps

AGENCY: Office of Energy Efficiency and Renewable Energy, Department of Energy.

ACTION: Request for information.

SUMMARY: The U.S. Department of Energy (“DOE”) is undertaking a review to determine whether amendments are warranted for the test procedure for dedicated-purpose pool pumps. Specifically, through this request for information (“RFI”), DOE has identified certain issues associated with the currently applicable test procedure on which DOE is interested in receiving comment. The issues outlined in this document mainly concern the scope of coverage, updated industry test procedures, and the definition of a basic model. DOE welcomes written comments from the public on any subject within the scope of this document, including topics not raised in this request for information (“RFI”).

DATES: Written comments and information are requested and will be accepted on or before February 23, 2022.

ADDRESSES: Interested persons are encouraged to submit comments using the Federal eRulemaking Portal at www.regulations.gov. Follow the instructions for submitting comments. Alternatively, interested persons may submit comments, identified by docket number EERE-2022-BT-TP-0003, by any of the following methods:

1. Federal eRulemaking Portal: www.regulations.gov. Follow the instructions for submitting comments.

2. Email: DPPP2022TP0003@ee.doe.gov. Include docket number EERE-2022-BT-TP-0003 in the subject line of the message.

No telefacsimiles (“faxes”) will be accepted. For detailed instructions on submitting comments and additional information on this process, see section III of this document.

Although DOE has routinely accepted public comment submissions through a variety of mechanisms, including postal mail and hand delivery/courier, the Department has found it necessary to make temporary modifications to the comment submission process in light of the ongoing coronavirus (“COVID-19”) pandemic. DOE is currently suspending receipt of public comments via postal mail and hand delivery/courier. If a commenter finds that this change poses an undue hardship, please contact Appliance Standards Program staff at (202) 586-1445 to discuss the need for alternative arrangements. Once the COVID-19 pandemic health emergency is resolved, DOE anticipates resuming all of its regular options for public comment submission, including postal mail and hand delivery/courier.

Docket: The docket for this activity, which includes Federal Register notices, comments, and other supporting documents/materials, is available for review at www.regulations.gov. All documents in the docket are listed in the www.regulations.gov index. However, some documents listed in the index, such as those containing information that is exempt from public disclosure, may not be publicly available.

The docket web page can be found at www.regulations.gov/docket/EERE-2022-BT-TP-0003. The docket web page contains instructions on how to access all documents, including public comments, in the docket. See section III for information on how to submit comments through www.regulations.gov.

FOR FURTHER INFORMATION CONTACT:

Jeremy Dommu, U.S. Department of Energy, Office of Energy Efficiency and Renewable Energy, Building Technologies Office, EE-5B, 1000 Independence Avenue SW, Washington, DC 20585-0121. Telephone: (202) 586-9870. Email: ApplianceStandardsQuestions@ee.doe.gov.

Ms. Amelia Whiting, U.S. Department of Energy, Office of the General Counsel, GC-33, 1000 Independence Avenue SW, Washington, DC 20585-0121. Telephone: (202) 586-2588; Email: amelia.whiting@hq.doe.gov.

For further information on how to submit a comment or review other public comments and the docket, contact the Appliance and Equipment Standards Program staff at (202) 287-1445 or by email: ApplianceStandardsQuestions@ee.doe.gov.

SUPPLEMENTARY INFORMATION:

Table of Contents

I. Introduction

A. Authority and Background

B. Rulemaking History

II. Request for Information

A. Definitions

B. Scope

C. Test Procedure

1. Updates to Industry Test Procedures

III. Submission of Comments

I. Introduction

This RFI requests information and data regarding whether an amended test procedure would more accurately and fully comply with the requirement that the test procedure produce results that measure energy use during a representative average use cycle for the equipment, and not be unduly burdensome to conduct. To inform interested parties and to facilitate this process, DOE has identified several issues associated with the currently applicable test procedures on which DOE is interested in receiving comment.

Pumps are included in the list of “covered equipment” for which DOE is authorized to establish and amend energy conservation standards and test procedures. (42 U.S.C. 6311(1)(A)) Dedicated-purpose pool pumps (“DPPPs”), which are the subject of this document, are a subset of pumps; thus DOE is authorized to establish test procedures and energy conservation standards for them. Relevant to this document, DOE has established test procedures for DPPPs at 10 CFR 431.464(b) and appendices B and C to subpart Y of part 431 (“Appendix B” and “Appendix C”, respectively). The following sections discuss DOE's authority to establish and amend test procedures for DPPPs, as well as relevant background information regarding DOE's consideration of test procedures for this equipment.

A. Authority and Background

The Energy Policy and Conservation Act, as amended (“EPCA”),¹ authorizes DOE to regulate the energy efficiency of several consumer products and certain industrial equipment. (42 U.S.C. 6291-6317) Title III, Part C ² of EPCA, added by Public Law 95-619, Title IV, section 441(a) (42 U.S.C. 6311-6317 as codified), established the Energy Conservation Program for Certain Industrial Equipment, which sets forth a variety of provisions designed to improve energy efficiency. “Pumps” are listed as a type of industrial equipment covered by EPCA, although EPCA does not define the term “pump.” (42 U.S.C. 6311(1)(A)) DOE defines “pump” as equipment designed to move liquids (which may include entrained gases, free solids, and totally dissolved solids) by physical or mechanical action, includes a bare pump, and, if included by the manufacturer at the time of sale, mechanical equipment, driver, and controls. 10 CFR 431.462. Dedicated-purpose pool pumps, which are the subject of this RFI, meet this definition of a pump and are covered under the pump equipment type.

¹ All references to EPCA in this document refer to the statute as amended through the Energy Act of 2020, Public Law 116-260 (Dec. 27, 2020).

² For editorial reasons, upon codification in the U.S. Code, Part C was redesignated Part A-1.

The energy conservation program under EPCA consists essentially of four parts: (1) Testing, (2) labeling, (3) Federal energy conservation standards, and (4) certification and enforcement procedures. Relevant provisions of EPCA include definitions (42 U.S.C. 6311), test procedures (42 U.S.C. 6314), labeling provisions (42 U.S.C. 6315), energy conservation standards (42 U.S.C. 6313), and the authority to require information and reports from manufacturers (42 U.S.C. 6316).

Federal energy efficiency requirements for covered equipment established under EPCA generally supersede State laws and regulations concerning energy conservation testing, labeling, and standards. (42 U.S.C. 6316(a)); 42 U.S.C. 6297) DOE may, however, grant waivers of Federal preemption for particular State laws or regulations, in accordance with the procedures and other provisions of EPCA. (42 U.S.C. 6316(b)(2)(D))

The Federal testing requirements consist of test procedures that manufacturers of covered equipment must use as the basis for: (1) Certifying to DOE that their equipment complies with the applicable energy conservation standards adopted pursuant to EPCA (42 U.S.C. 6316(a); 42 U.S.C. 6295(s)), and (2) making representations about the efficiency of that equipment (42 U.S.C. 6314(d)). Similarly, DOE must use these test procedures to determine whether the equipment complies with relevant standards promulgated under EPCA. (42 U.S.C. 6316(a); 42 U.S.C. 6295(s))

Under 42 U.S.C. 6314, EPCA sets forth the criteria and procedures DOE must follow when prescribing or amending test procedures for covered equipment. EPCA requires that any test procedures prescribed or amended under this section must be reasonably designed to produce test results which reflect energy efficiency, energy use or estimated annual operating cost of a given type of covered equipment during a representative average use cycle and requires that test procedures not be unduly burdensome to conduct. (42 U.S.C. 6314(a)(2))

EPCA also requires that, at least once every 7 years, DOE review test procedures for all types of covered equipment, including DPPPs, to determine whether amended test procedures would more accurately or fully comply with the requirements that the test procedures be reasonably designed to produce test results that reflect energy efficiency, energy use, and estimated operating costs during a representative average use cycle and to not be unduly burdensome to conduct. (42 U.S.C. 6314(a)(1) In addition, if the Secretary determines that a test procedure amendment is warranted, the Secretary must publish proposed test procedures in the Federal Register, and afford interested persons an opportunity (of not less than 45 days' duration) to present oral and written data, views, and arguments on the proposed test procedures. (42 U.S.C. 6314(b)) If DOE determines that test procedure revisions are not appropriate, DOE must publish its determination not to amend the test procedures. DOE is publishing this RFI to collect data and information to inform its decision in satisfaction of the 7-year review requirement specified in EPCA. (42 U.S.C. 6314(a)(1))

B. Rulemaking History

DOE's test procedure for determining DPPP energy efficiency was established in a final rule published on August 7, 2017. 82 FR 36858 (“August 2017 Final Rule”). The August 2017 Final Rule established a definition for the term “dedicated-purpose pool pump” and described several categories of DPPPs. The DPPP test procedure currently incorporates by reference the Hydraulic Institute (“HI”) Standard 40.6-2014, “Methods for Rotodynamic Pump Efficiency Testing” (“HI 40.6-2014”), along with several modifications to that testing method related to measuring the hydraulic power, the true power factor, and the maximum head. 82 FR 36858, 36861. The definitions, DPPP test procedure, sampling provisions, enforcement requirements, and labeling requirements contained in the August 2017 DPPP TP Final Rule reflect the recommendations of the DPPP Working Group contained in both the December 2015 and June 2016 DPPP Working Group Recommendations (82 FR 36858, 36860).

II. Request for Information

DOE has identified specific issues on which it seeks input to aid in its analysis of whether an amended test procedure for dedicated-purpose pool pumps would more accurately or fully comply with the requirement that the test procedure produces results that measure energy use during a representative average use cycle for the product, and not be unduly burdensome to conduct. (42 U.S.C. 6314(a)(2))

In addition, DOE notes that since publication of the August 2017 Final Rule, as well as the energy conservation standards direct final rule,³ it has received inquiries from stakeholders related to implementation of and compliance with the regulatory requirements for DPPPs. This RFI discusses these issues and identifies additional information that would be needed if DOE decided to propose amending its current test procedure.

³ Energy conservation standards direct final rule for dedicated-purpose pool pumps published January 18, 2017 (82 FR 5650) and confirmed on May 26, 2017 (82 FR 24218).

Additionally, DOE welcomes comments on any aspect of the existing test procedures for DPPPs and on other relevant issues that may not be specifically identified in this document.

A. Definitions

DPPPs are a category of pumps, and the term “dedicated-purpose pool pump” comprises self-priming pool filter pumps, non-self-priming pool filter pumps, waterfall pumps, pressure cleaner booster pumps, integral sand-filter pool pumps, integral-cartridge filter pool pumps, storable electric spa pumps, and rigid electric spa pumps. 10 CFR 431.462.

DOE also defines a number of the terms used in the DPPP definition:

Integral cartridge-filter pool pump means a pump that requires a removable cartridge filter, installed on the suction side of the pump, for operation; and the cartridge filter cannot be bypassed.

Integral sand-filter pool pump means a pump distributed in commerce with a sand filter that cannot be bypassed.

Non-self-priming pool filter pump means a pool filter pump that is not certified under NSF/ANSI 50-2015 (incorporated by reference, see § 431.463) to be self-priming and is not capable of re-priming to a vertical lift of at least 5.0 feet with a true priming time less than or equal to 10.0 minutes, when tested in accordance with section F of appendix B or C of this subpart, and is not a waterfall pump.

Pool filter pump means an end suction pump that:

(1) Either: (i) Includes an integrated basket strainer; or (ii) Does not include an integrated basket strainer, but requires a basket strainer for operation, as stated in manufacturer literature provided with the pump; and

(2) May be distributed in commerce connected to, or packaged with, a sand filter, removable cartridge filter, or other filtration accessory, so long as the filtration accessory are connected with consumer-removable connections that allow the filtration accessory to be bypassed.

Pool pump timer means a pool pump control that automatically turns off a dedicated-purpose pool pump after a run-time of no longer than 10 hours.

Pressure cleaner booster pump means an end suction, dry rotor pump designed and marketed for pressure-side pool cleaner applications, and which may be UL listed under ANSI/UL 1081-2016 (incorporated by reference, see § 431.463).

Rigid electric spa pump means an end suction pump that does not contain an integrated basket strainer or require a basket strainer for operation as stated in manufacturer literature provided with the pump and that meets the following three criteria:

(1) Is assembled with four through bolts that hold the motor rear endplate, rear bearing, rotor, front bearing, front endplate, and the bare pump together as an integral unit;

(2) Is constructed with buttress threads at the inlet and discharge of the bare pump; and

(3) Uses a casing or volute and connections constructed of a non-metallic material.

Self-priming pool filter pump means a pool filter pump that is certified under NSF/ANSI 50-2015 (incorporated by reference, see § 431.463) to be self-priming or is capable of re-priming to a vertical lift of at least 5.0 feet with a true priming time less than or equal to 10.0 minutes, when tested in accordance with section F of appendix B or C of the DPPP test procedure, and is not a waterfall pump.

Storable electric spa pump means a pump that is distributed in commerce with one or more of the following:

(1) An integral heater; and

(2) An integral air pump.

Submersible pump means a pump that is designed to be operated with the motor and bare pump fully submerged in the pumped liquid.

Waterfall pump means a pool filter pump with a certified maximum head less than or equal to 30.0 feet, and a maximum speed less than or equal to 1,800 rpm.

Issue 1: DOE requests comment on the definitions of DPPPs and DPPP varieties and whether any of the terms should be amended, and if so, how the terms should be amended. In particular, DOE requests comment on whether the terms are sufficient to identify which equipment is subject to the test procedure and whether any test procedure amendments are required to ensure that all such equipment can be appropriately tested in accordance with the test procedure.

The definitions of integral cartridge-filter pool pumps and integral sand-filter pool pumps depend on the defined term “integral” and on the term “bypassed.” The definitions of these pump varieties do not explicitly provide whether removing the filtration media constitutes bypassing the filter.

Issue 2: DOE requests comment on whether it should define the term “bypass,” whether it should provide additional detail for the definition of the term “integral,” or whether the existing definitions are sufficient to determine the classification of individual DPPPs. If additional detail is necessary for either of these terms, please specify what detail should be provided to determine the classification of such DPPPs.

The energy conservation standards for integral cartridge-filter pool pumps and integral sand-filter pool pumps at 10 CFR 431.465 require that each pump that is manufactured starting on July 19, 2021 must be distributed in commerce with a pool pump timer that is either integral to the pump or a separate component shipped with the pump. 10 CFR 431.465(g) As described, the term “pool pump timer” is defined as a pool pump control that automatically turns off a DPPP after a run-time of no longer than 10 hours. The definition of pool pump timer does not describe whether the timer may be user-adjustable (e.g., to accommodate time periods other than 10 hours) or, if the timer is user-adjustable, whether it must be supplied with a preset operating time of 10 hours.

Issue 3: DOE requests comment on whether it should provide additional detail in the definitions of pool pump timers and integral filter housings regarding the requirements of the pool pump timer, or whether the existing definitions are sufficient to determine the compliance status of individual DPPPs. If additional detail is warranted, please specify what detail should be added.

B. Scope

The current Federal test procedures at 10 CFR 431.464(b) apply to self-priming and non-self-priming pool filter pumps with hydraulic output power less than 2.5 horsepower, waterfall pumps, and pressure cleaner booster pumps. 10 CFR 431.464(b)(1)(i). Additionally, submersible pumps are not covered by the test procedure. 10 CFR 431.464(b)(1)(iii)(A).

The ASRAC DPPP Working Group focused on self-priming and non-self-priming pool filter pumps with hydraulic output power less than 2.5 horsepower, which are typically installed in residential applications. (Docket No. EERE-2015-BT-0008, No. 82, pp. 1-2). Very large pool filter pumps, with hydraulic output of 2.5 horsepower or more, are more commonly installed in commercial applications, where the head and flow characteristics are significantly different from residential installations. Because of these differences, a test procedure for very large pool filter pumps would require unique load points. The ASRAC DPPP Working Group also noted a lack of performance data for these very large pool filter pumps, which prevented the group from negotiating standards for these pumps, and therefore they did not recommend a test procedure either. (Docket No. EERE-2015-BT-STD-0008, No. 53 at pp. 197-198; Docket No. EERE-2015-BT-STD-0008, No. 79 at pp. 33-34, pp. 41-42, pp. 44-48, pp. 50-53) For these reasons, DOE did not adopt a test procedure or standards for pool filter pumps with hydraulic output power greater than or equal to 2.5 horsepower.

Following adoption of the test procedure and energy conservation standards for DPPPs, manufacturers identified several models of DPPPs that are designed and marketed for commercial applications but do in fact have hydraulic output power less than 2.5 horsepower. The Office of the General Counsel has issued an enforcement policy statement regarding these DPPPs.⁴ The policy states that DOE will not enforce the testing, labeling, certification, and standards compliance requirements for DPPPs meeting all of the following three criteria:

⁴ www.energy.gov/gc/articles/direct-purpose-pool-pumps-enforcement-policy.

(1) The orifice on the pump body that accepts suction side plumbing connections has an inner diameter of greater than 2.85 inches; and

(2) The pump has a measured performance of ≥200 gallons per minute (gpm) at 50 feet of head as determined in accordance with appendix B or C (as applicable) to subpart Y of part 431, section I.A.1 (When determining overall efficiency, best efficiency point, or other applicable pump energy performance information, section 40.6.5.5.1, “Test procedure”; section 40.6.6.2, “Pump efficiency”; and section 40.6.6.3, “Performance curve” must be used, as applicable); and

(3) The pump is marketed exclusively for commercial applications.

As explained in the enforcement policy statement, these pumps were not considered during the ASRAC negotiations, but were not explicitly exempted in the regulatory text.

Issue 4: DOE requests comment on whether it should expand the scope of the DPPP test procedure to include pumps designed for commercial applications, including those subject to the enforcement policy and/or pool filter pumps with hydraulic output power greater than or equal to 2.5 horsepower. If so, DOE seeks information on which test points and system curves would be appropriate to measure performance of these DPPPs.

C. Test Procedure

DOE specifies the weighted energy factor (“WEF”) as the test metric for self-priming pool filter pumps, non-self-priming pool filter pumps, waterfall pumps, and pressure cleaner booster pumps. 10 CFR 431.464(b). Generally, the WEF metric is a ratio of the measured water flow to the driver power input to the tested pump. For single-speed DPPPs, the WEF metric represents pump performance at a single test point. For two-speed and multiple-speed DPPPs, the WEF metric represents a weighted average of pump performance at two test points. Section I.D.3 of appendix B and appendix C to subpart Y of part 431.

1. Updates to Industry Test Procedures

DOE's established practice is to adopt industry standards as DOE test procedures unless such methodology would be unduly burdensome to conduct or would not produce test results that reflect the energy efficiency, energy use, water use (as specified in EPCA) or estimated operating costs of that product during a representative average use cycle. 10 CFR 431.4; 10 CFR part 430 subpart C appendix A section 8(c). In cases where the industry testing standard does not meet the EPCA statutory criteria for test procedures, DOE will make any necessary modifications to these testing standards through the rulemaking process when adopting them for inclusion into DOE's regulations.

a. HI Standard 40.6

DOE's test procedure for pumps incorporates by reference HI 40.6-2014, Methods for Rotodynamic Pump Efficiency Testing, (“HI 40.6-2014”), with exceptions, specified at 10 CFR 431.463. HI 40.6-2014 defines and explains how to calculate driver power input, volume per unit time, pump total head, pump power output, overall efficiency, and other relevant quantities necessary to determine the weighted energy factor (“WEF”). HI 40.6-2014 specifies the test setup, methodology, standard rating conditions, and tolerances of test equipment. Subsequent to the development of the August 2017 Final Rule,⁵ the Hydraulic Institute (HI) updated HI 40.6-2014 with the publication of HI Standard 40.6-2016, “Methods for Rotodynamic Pump Efficiency Testing” (“HI 40.6-2016”). This update aligned the definitions and procedures described in HI Standard 40.6 with the DOE test procedure for commercial and industrial pumps, which published on January 25, 2016 (81 FR 4086). However, the DOE test procedure for commercial and industrial pumps explicitly excludes DPPPs from scope.⁶ Nonetheless, DOE has reviewed the relevant sections of HI 40.6-2016 and determined that HI 40.6-2016 produces test results that reflect the energy efficiency, energy use, or estimated operating costs of a dedicated-purpose pool pump during a representative average use cycle of DPPPs.

⁵ A pre-publication version of the test procedure final rule was made available December 22, 2016. www.energy.gov/sites/default/files/2016/12/f34/DPPP_TP_Final_Rule.pdf.

⁶ DOE's test procedure for determining pump energy efficiency was established in a final rule published on January 25, 2016 and excluded DPPPs from the definition of end suction close-coupled and end suction frame mounted pumps. 81 FR 4086, 4099 (“January 2016 Final Rule”).

Additionally, HI has recently published another updated version of HI 40.6, “Methods for Rotodynamic Pump Efficiency Testing” (“HI 40.6-2021”). This version primarily updates the HI standard reference for nomenclature and definitions ⁷ and includes a new appendix for the testing of circulator pumps. In response to a request for information on commercial and industrial pumps,⁸ stakeholders generally supported DOE's incorporation by reference of HI 40.6-2021 for that test procedure (Docket No. EERE-2020-BT-TP-0032: Grundfos Americas Corporation, No. 7, p. 2; Northwest Energy Efficiency Alliance, No. 8, p. 6; HI, No. 6, p. 1), with HI stating that it would not impact measured values, burden, or representativeness. (Docket No. EERE-2020-BT-TP-0032: HI, No. 6 at p. 3) DOE has reviewed relevant sections of HI 40.6-2021 and has determined that updates to the latest version of HI 40.6 will neither affect testing nor result in different test outcomes for DPPPs.

⁷ ANSI/HI 14.1-14.2 “Rotodynamic Pumps for Nomenclature and Definitions” (“ANSI/HI 14.1-14.2”).

⁸ 85 FR 60734 (September 28, 2020).

Issue 5: DOE requests comments on the updated standard HI 40.6-2021 and on whether DOE should incorporate HI 40.6-2021 by reference as the DOE test procedure for DPPPs. Specifically, DOE requests information on whether the updates in HI 40.6-2021 (and HI 40.6-2016) impact the measured values for DPPPs, and if so, to what extent. DOE also requests information on the impact of the updates in HI 40.6-2021 (and HI 40.6-2016) to the test burden and the representativeness of the test results for DPPPs.

b. NSF/ANSI Standard 50

DOE's test procedure for DPPPs references specific sections of NSF International (“NSF”)/American National Standards Institute (“ANSI”) Standard 50-2015 “Equipment for Swimming Pools, Spas, Hot Tubs and Other Recreational Water Facilities” (“NSF/ANSI 50-2015”). The DOE test procedure for DPPPs references Annex C, “Normative test methods for the evaluation of centrifugal pumps,” Section C.3, “Self-priming capability,” of NSF/ANSI 50-2015. These provisions pertain to the classifications and testing of self-priming and non-self-priming pool filter pumps. Section F of appendix B to subpart Y of part 431.

Since publication of the August 2017 Final Rule, NSF updated NSF/ANSI 50-2015 with the publication of NSF/ANSI/CAN Standard 50-2019 “Equipment And Chemicals For Swimming Pools, Spas, Hot Tubs, And Other Recreational Water Facilities” (“NSF/ANSI/CAN 50-2019”). This update changed section numbering and references but does not affect the test methods related to self-priming and non-self-priming pool filter pumps.

Issue 6: DOE requests comments on the updated standard NSF/ANSI/CAN 50-2019 and on whether DOE should reference NSF/ANSI/CAN 50-2019 sections N3-3 (which is the same as section C3 of NSF/ANSI 50-2015) as the DOE test procedure for determining the self-priming capabilities of DPPPs. DOE also requests information on the impact of the updates in NSF/ANSI/CAN 50-2019 to the test burden and the representativeness of the test results.

III. Submission of Comments

DOE invites all interested parties to submit in writing by the date specified in the DATES section, comments and information on matters addressed in this RFI.

Submitting comments via www.regulations.gov. The www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. Following this instruction, persons viewing comments will see only first and last names, organization names, correspondence containing comments, and any documents submitted with the comments.

Do not submit to www.regulations.gov information for which disclosure is restricted by statute, such as trade secrets and commercial or financial information (hereinafter referred to as Confidential Business Information (“CBI”)). Comments submitted through www.regulations.gov cannot be claimed as CBI. Comments received through the website will waive any CBI claims for the information submitted. For information on submitting CBI, see the Confidential Business Information section.

DOE processes submissions made through www.regulations.gov before posting. Normally, comments will be posted within a few days of being submitted. However, if large volumes of comments are being processed simultaneously, your comment may not be viewable for up to several weeks. Please keep the comment tracking number that www.regulations.gov provides after you have successfully uploaded your comment.

Submitting comments via email. Comments and documents submitted via email also will be posted to www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. Faxes will not be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email two well-marked copies: One copy of the document marked confidential including all the information believed to be confidential, and one copy of the document marked “non-confidential” with the information believed to be confidential deleted. DOE will make its own determination about the confidential status of the information and treat it according to its determination.

It is DOE's policy that all comments may be included in the public docket, without change and as received, including any personal information provided in the comments (except information deemed to be exempt from public disclosure).

DOE considers public participation to be a very important part of the process for developing test procedures and energy conservation standards. DOE actively encourages the participation and interaction of the public during the comment period in each stage of this process. Interactions with and between members of the public provide a balanced discussion of the issues and assist DOE in the process. Anyone who wishes to be added to the DOE mailing list to receive future notices and information about this process should contact Appliance and Equipment Standards Program staff at (202) 287-1445 or via email at ApplianceStandardsQuestions@ee.doe.gov.

Signing Authority

This document of the Department of Energy was signed on January 12, 2022, by Kelly J. Speakes-Backman, Principal Deputy Assistant Secretary for Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on January 12, 2022.
Treena V. Garrett,
Federal Register Liaison Officer, U.S. Department of Energy.

[FR Doc. 2022-00850 Filed 1-21-22; 8:45 am]

BILLING CODE 6450-01-P